DEPARTMENT OF HOUSING AND URBAN DEVELOPMENT

[Docket No. FR-5828-N-18]

Federal Property Suitable as Facilities to Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; AIR FORCE: Mr. Robert E. Moriarty, P.E., AFCEC/CI, 2261 Hughes Avenue, Ste. 155, JBSA Lackland TX 78236-9853; ARMY: Ms. Veronica Rines, Office of the Assistant Chief of Staff for Installation Management, Department of Army, Room 5A128, 600 Army Pentagon, Washington, DC 20310, (571) 256-8145; COE: Mr. Scott Whiteford, Army Corps of Engineers, Real Estate, CEMP-CR, 441 G Street NW., Washington, DC 20314; (202) 761-5542; Commandant, United States Coast Guard, Attn: Jennifer Stomber, 2703 Martin Luther King Jr. Ave. SE., Stop 7714, Washington, DC 20593-; (202) 475-5609; GSA: Mr. Flavio Peres, General Services Administration, Office of Real Property Utilization and Disposal, 1800 F Street NW., Room 7040 Washington, DC 20405, (202) 501-0084; INTERIOR: Mr. Michael Wright, Acquisition & Property Management, Department of the Interior, 3960 N. 56th Ave. #104, Hollywood, FL 33021; (443) 223-4639; NAVY: Mr. Steve Matteo, Department of the Navy, Asset Management; Division, Naval Facilities Engineering Command, Washington Navy Yard, 1330 Patterson Ave. SW., Suite 1000, Washington, DC 20374; (202) 685-9426; (These are not toll-free numbers).

Dated: April 23, 2015.
Brian P. Fitzmaurice,
Director, Division of Community Assistance, Office of Special Needs Assistance Programs.

TITLE V, FEDERAL SURPLUS PROPERTY PROGRAM FEDERAL REGISTER REPORT FOR 05/01/2015

Suitable/Available Properties

Building

Alaska

Building 141

Hdqts. Area, Denali Nat'l Preserve

Denali Park AK 99755

Landholding Agency: Interior

Property Number: 61201520002

Status: Unutilized

Comments: 57+yrs.old; 1,042 sq. ft.; 12+mos. vacant; poor condition; storage; temp. foundation; roof needs to be replaced; contact Interior for more information.

California

Stonyford Modular Barracks

5171 Stonyford—Elk Creek Rd.

Stonyford CA 95979

Landholding Agency: Agriculture

Property Number: 15201520002

Status: Unutilized

Comments: off-site removal only; 42+yrs. old; 720 sq. ft.; residential; floors need replacing; no future agency need; prior approval to gain access is required; contact Agriculture for more information.

Ditchrider House in Tulelake

2717 Havlina Road

Tulelake CA 96134

Landholding Agency: Interior

Property Number: 61201520001

Status: Unutilized

Directions: District Parking Lot

Comments: 80+yrs. old; 480 sq.; residential; vacant 60+mos.; roof in disrepair; contact Interior for more information.

Michigan

Mio 4 Carpet Connection

Consumers Lease Cabin

Huron National Forest

Grayling MI

Landholding Agency: Agriculture

Property Number: 15201520009

Status: Unutilized

Comments: off site removal only; no future agency need; 1,600 sq. ft.; residential seasonal; cabin floor rotting/soft; significant mold present; contact Agriculture for more information.

Utah

Little Mountain Communication

40.53807749-109.69935286

Maeser UT 84078

Landholding Agency: GSA

Property Number: 54201520002

Status: Excess

GSA Number: 7-A-UT-0536-AA

Directions: Disposal Agency: GSA, Land Holding Agency: Agriculture

Comments: off-site removal; 190 sq. ft.; 12+mos. vacant; radio tower, commercial; contact Forest Service to gain access; contact Agriculture for more information.

Vermont

Old Operators Quarters/USACE N

100 Reservoir Road

Springfield VT 05156

Landholding Agency: COE

Property Number: 31201520001

Status: Underutilized

Comments: off-site removal only; 50+yrs. old; 700 sq. ft.; storage; asbestos; no future agency need; contact COE for more information.

Washington

Building 03932

Joint Base Lewis McChord

JBLM WA 98433

Landholding Agency: Army

Property Number: 21201520001

Status: Underutilized

Comments: off-site removal only; no future agency need; 120 sq. ft.; storage; 49+ yrs.; significant repairs for restoration; contamination; contact Army for accessibility and removal requirements.

Land

Colorado

Grand Valley Project

39.25326873-108.84370271

Unincorporated CO 81524

Landholding Agency: GSA

Property Number: 54201520001

Status: Excess

GSA Number: 7-I-CO-0699-AA

Directions: Disposal Agency: GSA, Land Holding Agency: Interior

Comments: 30.12 acres; agricultural; silage pits; contact Interior for more information.

Unsuitable Properties

Building

Massachusetts

Building 181

181 East Road

Otis ANGB MA 02542

Landholding Agency: Air Force

Property Number: 18201520001

Status: Excess

Comments: public access denied & no alternative method to gain access without compromising National Security.

Reasons: Secured Area

3 Buildings

Otis ANGB, MA

Otis ANGB MA 02542

Landholding Agency: Air Force

Property Number: 18201510045

Status: Excess

Directions: Building 120; 122; 153

Comments: public access denied & no alternative method to gain access w/out compromising National Security.; property located within an Airport Runway Clear Zone.

Reasons: Secured Area; Within airport runway clear zone

Alaska

Duplex Housing Units 100 & 102

Lots 3 & 4, Block 2, Bettles Airport Subdivision

Bettles AK 99755

Landholding Agency: Interior

Property Number: 61201520003

Status: Unutilized

Comments: Property located within an airport runway.

Reasons: Within airport runway clear zone

Michigan

Mio 7 Winowiecki Consumers Cab

Huron Nat'l Forest Old M-72

(Smith Bridge)

Grayling MI 49738

Landholding Agency: Agriculture

Property Number: 15201520003

Status: Unutilized

Comments: documented deficiencies: documentation provided represents a clear threat to personal safety; significant rot in floor/roof structure; relocation will most likely result in the roof collapsing.

Reasons: Extensive deterioration

Mio 7 Winowiecki Consumers Lea

Huron National Forest Old M-72

(Smith Bridge)

Grayling MI 49738

Landholding Agency: Agriculture

Property Number: 15201520004

Status: Unutilized

Comments: documented deficiencies: documentation provided represents a clear threat to personal safety; interior space of the structure cannot be made to comply w/habitability requirements.

Reasons: Extensive deterioration

Washington

Navy Reserve Center-Building 7

5101 N. Assemble Street

Spokane WA 99205

Landholding Agency: Navy

Property Number: 77201520002

Status: Excess

Comments: Public access denied & no alternative method to gain access without compromising National Security.

Reasons: Secured Area

Land

Georgia

Proposed Photovoltaic (PV) Sit

Marine Corps Logistics Base

Albany GA 31704

Landholding Agency: Navy

Property Number: 77201520001

Status: Underutilized

Comments: Public access denied & no alternative method to gain access without compromising National Security.

Reasons: Secured Area

[FR Doc. 2015-10017 Filed 4-30-15; 8:45 am]

BILLING CODE 4210-67-P